DEPARTMENT OF HEALTH AND HUMAN SERVICES

Centers for Disease Control and Prevention

[Docket No. CDC-2019-0094]

CDC Recommendations for Hepatitis C Screening Among Adults—United States, 2020

AGENCY: Centers for Disease Control and Prevention (CDC), Department of Health and Human Services (HHS).

ACTION: Notice of availability.

SUMMARY: The Centers for Disease Control and Prevention (CDC) announces the availability of the final CDC Recommendations for Hepatitis C Screening Among Adults—United States, 2020.

DATES: The final document was published as an MMWR Reports & Recommendations on April 10, 2020.

ADDRESSES: The document may be found in the docket at www.regulations.gov, Docket No. CDC-2019-0084 and at https://www.cdc.gov/mmwr/volumes/69/rr/rr6902a1.htm?s_cid=rr6902a1_w.

FOR FURTHER INFORMATION CONTACT: CDR Sarah Schillie, MD, MPH, MBA, Centers for Disease Control and Prevention, 1600 Clifton Rd., NE U12-3, Atlanta, GA 30329. Telephone: (404) 639-8000; email: DVHpolicy@cdc.gov.

SUPPLEMENTARY INFORMATION: In 2019, CDC determined that CDC Recommendations for Hepatitis C Screening Among Adults—United States, 2020 constituted influential scientific information (ISI) that will have a clear and substantial impact on important public policies and private sector decisions. Under the Information Quality Act, Public Law 106-554, agencies are required to conduct peer review of the information by specialists in the field who were not involved in the development of these recommendations. CDC solicited nominations for reviewers from the American Association for the Study of Liver Diseases (AASLD), Infectious Diseases Society of America (IDSA) and the American College of Obstetricians and Gynecologists (ACOG). Six clinicians with expertise in hepatology, gastroenterology, internal medicine, infectious diseases and/or obstetrics and gynecology provided structured peer reviews. Peer reviewers were supportive of the recommendations and raised comments about the benefit of screening pregnant women and inclusion of a prevalence threshold. Feedback obtained during the peer review process was carefully reviewed and considered by CDC. Ultimately no changes to the recommendation statement were made; however, additional references and justification for the recommendation to screen during every pregnancy and maintaining the prevalence threshold were added to the document. A summary of the peer review comments, CDC's response, and changes made to the document in response to the comments can be found in the Supporting Materials tab of the docket and at https://www.cdc.gov/hepatitis/policy/isireview/PeerReviewCR.htm.

In addition, on October 28, 2019, CDC published a notice in the Federal Register (84 FR 57733) announcing the opening of a docket to obtain public comment on the draft recommendations for hepatitis C screening among adults. The comment period closed December 27, 2019. CDC received response from 69 commenters on the draft recommendations document. Public commenters included those from academia, professional organizations, industry, and the public.

Many of the comments from the public were in support of the recommendations. For those comments that proposed changes, the majority related to removing the recommendation to screen for hepatitis C in every pregnancy or removing the prevalence threshold for universal screening. Feedback obtained during both the peer review process and the public comment period was carefully reviewed and considered by CDC. Ultimately no changes to the recommendation statement were made; however, additional references and justification for the recommendation to screen during every pregnancy and maintaining the prevalence threshold were added to the document. A summary of public comments and CDC's response is found in the Supporting Materials tab of the docket.

Dated: April 23, 2020.
Sandra Cashman,
Executive Secretary, Centers for Disease Control and Prevention.

[FR Doc. 2020-08960 Filed 4-27-20; 8:45 am]

BILLING CODE 4163-18-P